NATIONAL SCIENCE FOUNDATION

National Science Board; Sunshine Act Meetings; Notice Revised

The National Science Board, pursuant to NSF regulations (45 CFR part 614), the National Science Foundation Act, as amended (42 U.S.C. 1862n-5), and the Government in the Sunshine Act (5 U.S.C. 552b), hereby gives revised notice in regard to the scheduling of meetings for the transaction of National Science Board business and other matters specified, as follows:

AGENCY HOLDING MEETING: National Science Board.

DATE AND TIME: Monday, December 12, 2011 at 2 p.m., Tuesday, December 13 at 8 a.m., and Wednesday, December 14, at 8 a.m.

PLACE: These meetings will be held at the National Science Foundation, 4201Wilson Blvd., Room 1235, Arlington, VA 22230. All visitors must contact the Board Office [call (703) 292-7000 or send an email message to nationalsciencebrd@nsf.gov] at least 24 hours prior to the teleconference and provide name and organizational affiliation. All visitors must report to the NSF visitor desk located in the lobby at the 9th and N. Stuart Streets entrance on the day of the teleconference to receive a visitor's badge.

WEBCAST INFORMATION: The public meetings and public portions of meetings will be webcast. To view the meetings, go to http://www.tvworldwide.com/events/nsf/111213 and follow the instructions.

UPDATES: Please refer to the National Science Board Web site http://www.nsf.gov/nsb for additional information and schedule updates (time, place, subject matter or status of meeting) may be found at http://www.nsf.gov/nsb/notices/.

AGENCY CONTACT: Jennie L. Moehlmann, jmoehlma@nsf.gov, (703) 292-7000.

PUBLIC AFFAIRS CONTACT: Dana Topousis, dtopousi@nsf.gov, (703) 292-7750.

STATUS: Portions open; portions closed.

CLOSED SESSIONS:

December 12, 2011

4 p.m.-4:45 p.m.

December 13, 2011

9:40 a.m.-9:45 a.m.

11:15 a.m.-12 p.m.

4:45 p.m.-5 p.m.

December 14, 2011

11 a.m.-11:15 a.m.

11:15 a.m.-11:45 a.m.

OPEN SESSIONS:

December 12, 2011

2 p.m.-4 p.m.

December 13, 2011

8 a.m.-8:20 a.m.

8:20 a.m.-9 a.m.

9 a.m.-9:40 a.m.

9:45 a.m.-11:15 a.m.

1:15 p.m.-2:30 p.m.

2:30 p.m.-3:30 p.m.

3:30 p.m.-4:45 p.m.

December 14, 2011

8 a.m.-8:45 a.m.

8:45 a.m.-9:45 a.m.

9:45 a.m.-10:45 a.m.

11:45 a.m.-12:15 p.m.

1:15 p.m.-3 p.m.

MATTERS TO BE DISCUSSED:

Monday, December 12, 2011

Committee on Programs and Plans (CPP)

Open Session: 2 p.m.-4 p.m.

• Approval of Open CPP Minutes for July 2011

• Committee Chairman's Remarks: CY 2012 Schedule of Action and Information Items for NSB Review; CPP Task Force on Unsolicited Mid-Scale Research—Charge Revision

• Discussion Item: Status of CPP Program Portfolio Planning

• NSB Information Items: Update on Polar Contracts, Update Subcommittee on Recompetition of NSF Facilities

• NSB Information Item & Discussion: NSF High Performance Computing Strategy

• NSB Briefing: Update on Changes in BIO Process in Receipt of Proposals

Committee on Programs and Plans (CPP)

Closed Session: 4 p.m.-4:45 p.m.

• Committee Chairman's Remarks

• Approval of Closed CPP Minutes for July 2011 and October 2011

• NSB Action: Operation of the International Astronomy Observatory

Tuesday, December 13, 2011

Plenary Board Meeting

Open Session 8 a.m.-8:20 a.m.

• Chairman's Introduction

CPP Task Force on Unsolicited Mid-Scale Research (MS)

Open Session 8:20 a.m.-9 a.m.

• Approval of the September 13, 2011 Task Force Meeting minutes

• Presentation and discussion of the NSF mid-scale award data analysis

• Discussion of the revised MS Task Force report outline

• Update on the MS Task Force customer satisfaction survey

CSB Subcommittee on Facilities (SCF)

Open Session: 9 a.m.-9:40 a.m.

• Chairman's Remarks

• Approval of Minutes from recent teleconferences: October 12, 2011, November 14, 2011

• Final Approval of the Mid-scale Instrumentation Report to Congress

• Planning discussion for upcoming SCF meetings in February and May 2012

• Chairman's Closing Remarks

CSB Subcommittee on Facilities (SCF)

Closed Session: 9:40 a.m.-9:45 a.m.

• Chairman's Remarks

• Approval of minutes from the July 29, 2011 closed meeting

Committee on Strategy and Budget (CSB)

Open Session: 9:45 a.m.-11:15 a.m.

• Committee Chairman's Remarks

• SCF Update and Report to Congress

• Update on FY 2012 Budget

• Strategic Planning

• Closing Remarks

Committee on Strategy and Budget (CSB)

Closed Session: 11:15 a.m.-12 p.m.

• Approval of the August 29, 2011 and September 6, 2011 Teleconference Minutes

• FY 2012 Transfer Authority

• Update on NSF FY 2013 Budget Development

• Policies and planning for budget processes for FY 2014 and beyond

Committee on Education and Human Resources (CEH)

Open Session: 1:15 p.m.-2:30 p.m.

• Approval of July 2011 minutes

• Update on the National Science and Technology Council Committee on STEM—Inventory of Federal STEM education activities and 5-year strategic Federal STEM education plan

• Discussion of the NSF STEM education research portfolio: getting from theory to scale

Task Force on Merit Review (MR)

Open Session: 2:30 p.m.-3:30 p.m.

• Approval of minutes from the July 28, 2011 meeting, August 24, 2011 teleconference, September 13, 2011 meeting

• Task Force Chairmen's Remarks

• Discussion of Final Report and Recommendations

• Task Force Chairmen's Closing Remarks

Committee on Audit and Oversight (A&O)

Open Session: 3:30 p.m.-4:45 p.m.

• Approval of Minutes of the July 28, 2011 Open Session

• Committee Chairman's Opening Remarks

• Inspector General's Update

• FY 2011 Financial Statement Audit Report

• Chief Financial Officer's Update

• Chief Information Officer's Report

• Human Capital Management Update

• OIG FY 2012 Audit Plan

• Update on Procedures re Personally Identifiable and Sensitive Information

• Committee Chairman's Closing Remarks

Committee on Audit and Oversight (A&O)

Closed Session: 4:45 p.m.-5 p.m.

• Approval of Minutes of the July 28, 2011 Meeting Closed Session

• Committee Chair's Opening Remarks

• Procurement activities

• Interim briefing of an ongoing OIG investigation regarding the process for reviewing Board Member proposals.

Wednesday, December 14, 2011

Subcommittee on Polar Issues (SOPI)

Open Session: 8 a.m.-8:45 a.m.

• Approval of Open Session Minutes, July 2011

• Committee Chairman's Remarks

• Director's Remarks

○ Briefing on Blue Ribbon Panel

○ Other Committee Business

• Update on Icebreaker Support for this year

• Discussion on Long-term Plan for Icebreaker Support

CSB Task Force on Data Policies (DP)

Open Session: 8:45 a.m.-9:45 a.m.

• Chairman's Remarks

• Approval of September 13, 2011, meeting minutes

• Discussion and Comment on the Revised Recommendations

• Closing remarks from the Chairman

Committee on Science & Engineering Indicators (SEI)

Open Session: 9:45 a.m.-10:45 a.m.

• Approval of July minutes

• Committee Chairman's Remarks

• Progress Report on Science and Engineering Indicators 2012

• Science and Engineering Indicators 2012 Companion Piece

• Science and Engineering Indicators 2012 Rollout

• Chairman's Summary

Plenary Board Meeting

Executive Closed Session: 11 a.m.-11:15 a.m.

• Approval of Executive Closed Session Minutes, September 13, 2011

• Candidate Sites for 2012 Board Retreat and Off-Site Meeting

• Approval of Honorary Award Recommendations

Plenary Board Meeting

Closed Session: 11:15 a.m.-11:45 a.m.

• Approval of Closed Session Minutes, July 2011

• Approval of Closed Session Minutes, September 6, 2011

• Awards and Agreements (Resolutions)

• Closed Committee Reports

Plenary Open

Open Session: 11:45 a.m.-12:15 p.m.

• Presentation—“Data Driven Discovery in Science”

Plenary Open

Open Session: 1:15 p.m.-3 p.m.

• Approval of Open Session Minutes

• Chairman's Report

• Director's Report

• Open Committee Reports

Meeting Adjourns: 3 p.m.

Ann Bushmiller,
Senior Counsel to the National Science Board.

[FR Doc. 2011-31943 Filed 12-8-11; 4:15 pm]

BILLING CODE 7555-01-P